DEPARTMENT OF TRANSPORTATION

Federal Aviation Administration

14 CFR Part 39

[Docket No. 2003-SW-47-AD]

RIN 2120-AA64

Airworthiness Directives; Eurocopter France Model EC 155B and EC 155B1 Helicopters

AGENCY: Federal Aviation Administration, DOT.

ACTION: Notice of proposed rulemaking (NPRM).

SUMMARY: This document proposes adopting a new airworthiness directive (AD) for the specified Eurocopter France (Eurocopter) model helicopters. This proposal would require inspecting the chamfer of the stop on the cabin sliding doors (doors) and installing an airworthy stop if the chamfer exceeds a certain length; and prior to each flight, visually checking the door to determine if it is correctly locked in the open position before flying with the doors open, and checking the locking indicator light and the position of the door handles before flying with the doors closed. This document also proposes to revise the Limitations Section of the Rotorcraft Flight Manual (RFM) prohibiting the opening or closing of a cabin sliding door at airspeeds of 40 or greater knots indicated airspeed (KIAS). This proposal is prompted by a report of a door separating from a helicopter during flight. The actions specified by this proposed AD are intended to prevent separation of a door during flight and damage to the helicopter, resulting in a forced landing or loss of control of the helicopter.

DATES: Comments must be received on or before October 18, 2004.

ADDRESSES: Submit comments in triplicate to the Federal Aviation Administration (FAA), Office of the Regional Counsel, Southwest Region, Attention: Rules Docket No. 2003-SW-47-AD, 2601 Meacham Blvd., Room 663, Fort Worth, Texas 76137. You may also send comments electronically to the Rules Docket at the following address: 9-asw-adcomments@faa.gov. Comments may be inspected at the Office of the Regional Counsel between 9 a.m. and 3 p.m., Monday through Friday, except Federal holidays.

FOR FURTHER INFORMATION CONTACT: Richard Monschke, Aviation Safety Engineer, FAA, Rotorcraft Directorate, Rotorcraft Standards Staff, Fort Worth, Texas 76193-0110, telephone (817) 222-5116, fax (817) 222-5961.

SUPPLEMENTARY INFORMATION:

Comments Invited

Interested persons are invited to participate in the making of the proposed rule by submitting such written data, views, or arguments as they may desire. Communications should identify the Rules Docket number and be submitted in triplicate to the address specified above. All communications received on or before the closing date for comments will be considered before taking action on the proposed rule. The proposals contained in this document may be changed in light of the comments received.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their mailed comments submitted in response to this proposal must submit a self-addressed, stamped postcard on which the following statement is made: “Comments to Docket No. 2003-SW-47-AD.” The postcard will be date stamped and returned to the commenter.

Discussion

The Direction Generale De L'Aviation Civile (DGAC), the airworthiness authority for France, notified the FAA that an unsafe condition may exist on Model EC 155B and EC 155B1 helicopters. The DGAC advises that they have issued an AD following the loss in flight of a cabin sliding door.

Eurocopter issued Alert Service Bulletin No. 52A015, dated September 8, 2003, which specified a modification (MOD 0753C48) to the micro switch support, and an adjustment to the micro switch to ensure lighting of the instrument panel “DOORS” light in the event of insufficient engagement of the cabin sliding door locking pin in its catch. The FAA did not mandate compliance with this alert service bulletin.

Eurocopter has also issued Alert Telex No. 52A013, Revision 1, dated September 24, 2003, which specifies:

• Within the next 50 hours time-in-service (TIS), inspecting the length of the chamfer on the stop of the lower rail aft fitting of the cabin sliding doors;

• Prior to flight with a cabin sliding door open, visually checking that the door is correctly locked in the open position;

• Prior to flight with a cabin sliding door closed, checking that the locking indicator light on the instrument panel is off when the door is closed, and when locking the door, checking that the door handle is in the closed position; and

• While in flight, prohibiting the opening or closing of a cabin sliding door at airspeeds of 40 or greater KIAS.

The DGAC classified this alert telex as mandatory and issued AD No. F-2003-345 R1, dated November 12, 2003, to ensure the continued airworthiness of these helicopters in France.

These helicopter models are manufactured in France and are type certificated for operation in the United States under the provisions of 14 CFR 21.29 and the applicable bilateral agreement. Pursuant to the applicable bilateral agreement, the DGAC has kept the FAA informed of the situation described above. The FAA has examined the findings of the DGAC, reviewed all available information, and determined that AD action is necessary for products of these type designs that are certificated for operation in the United States.

The previously described unsafe condition is likely to exist or develop on other helicopters of the same type designs registered in the United States. Therefore, the proposed AD would require:

• Before further flight, revising the Limitations Section of the RFM to prohibit opening or closing the cabin doors except at speeds of less than 40 KIAS.

• Within the next 50 hours TIS, inspecting the chamfer of the stop of the lower rail aft fitting of the doors, and if the chamfer is greater than 2mm in length, installing an airworthy stop;

• Prior to each flight with a door open, visually checking that the door is correctly locked in the open position; and

• Prior to flight with a door closed, checking that the locking indicator light on the instrument panel is “off” when the door is closed, that the door handles are in the correct closed position when the door is locked, and that the lower locking pin is correctly positioned in its catch. These closed-door checks are required until a chamfer that is 2mm or less in length is installed and, in accordance with MOD 0753C48, the mounting support plates are modified and the door micro-switches are adjusted.

The actions would be required to be accomplished in accordance with the alert telex described previously. The proposed AD would be an interim action until modified parts are developed. Additionally, if a door is opened or closed during flight, in accordance with the limitations of the RFM, the FAA anticipates that the appropriate crewmembers will assure that the door is properly secured.

The owner/operator (pilot) holding at least a private pilot certificate may perform the visual checks required by paragraphs (c) and (d) of this proposed AD and must enter compliance with those paragraphs into the aircraft maintenance records in accordance with 14 CFR 43.11 and 91.417(a)(2)(v). This proposed AD allows a pilot to perform these checks because they involve only visual checks to ensure that the cabin sliding doors are correctly locked in the open or closed position, and can be performed equally well by a pilot or a mechanic.

The FAA estimates that this proposed AD would affect 3 helicopters of U.S. registry and the proposed actions would take approximately 1 minute for each check on each helicopter, 2 work hours per helicopter to install 2 new stops, and 2 work hours to modify each helicopter in accordance with MOD 0753C48, at an average labor rate of $65 per work hour. Required parts would cost approximately $1,125 ($375 per helicopter). Based on these figures, we estimate the total cost impact of the proposed AD on U.S. operators to be $3,855 for the entire fleet, assuming 600 checks per helicopter, two stops are replaced on each helicopter, each helicopter is modified in accordance with MOD 0753C48, and the time to make the one-time revision to the RFM would be negligible.

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft economic evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

Eurocopter France: Docket No. 2003-SW-47-AD.

Applicability: Model EC 155B and EC 155B1 helicopters with cabin sliding doors, part number (P/N) 365A82-1064-02 (left-hand door) and P/N 365A82-1064-03 (right-hand door) and stop, P/N 365A25-8085-21, installed, certificated in any category.

Compliance: Required as indicated, unless accomplished previously.

To prevent separation of a door during flight and damage to the helicopter, resulting in a forced landing or loss of control of the helicopter, accomplish the following:

(a) Before further flight, revise the Limitations Section of the Rotorcraft Flight Manual (RFM) permitting the opening or closing of the cabin sliding doors only at speeds of less than 40 knots indicated airspeed.

(b) Within 50 hours time-in-service, inspect the length of the chamfer on the stop of the lower rail aft fitting on each cabin sliding door (door), and if the chamfer is more than 2mm in length, install an airworthy stop in accordance with paragraph 2.B., Operational Procedure, of Eurocopter Alert Telex No. 52A013, Revision 1, dated September 24, 2003.

Note 1: The inspection required by paragraph (b) of this AD has already been accomplished for all Model EC 155B1 helicopters prior to delivery.

(c) Before each flight with a door open, check that each open door is locked in the “open” position with the upper roller in its rail and the door open locking latch engaged.

(d) Before each flight with a door closed, check that:

(1) The locking indicator light on the instrument panel is “off,”

(2) The door handle is in the correct “closed” position, and

(3) The lower locking pin is positioned in its catch.

Note 2: If the door is correctly closed and latched, when viewed from the outside, the door handle will be flush with the profile of the housing and the aft lower corner of the door will be flush with the profile of the fuselage; when viewed from the inside, the door handle will be positioned opposite the locking indicator with no gap between the structure seal and the aft lower sealing surface of the door.

Note 3: If the door is closed and the lower locking pin is outside its catch, when viewed from the outside, the aft lower corner of the door is approximately 15 to 20mm from the fuselage; when viewed from the inside, the aft lower corner of the door is approximately 10 to 15mm from the fuselage.

(e) An owner/operator (pilot) holding at least a private pilot certificate may perform the visual checks required by paragraphs (c) and (d) of this AD and must enter compliance with those paragraphs into the aircraft maintenance records in accordance with 14 CFR 43.11 and 91.417(a)(2)(v).

(f) After the stops of the lower rail aft fitting with a chamfer 2mm or less in length are installed and in accordance with MOD 0753C48, the mounting plate supports are modified and the door micro-switches are adjusted, the checks required by paragraph (d) of this AD are no longer required.

(g) To request a different method of compliance or a different compliance time for this AD, follow the procedures in 14 CFR 39.19. Contact the Safety Management Group, Rotorcraft Directorate, FAA, for information about previously approved alternative methods of compliance.

Note 4: The subject of this AD is addressed in Direction Generale De L'Aviation Civile (France) AD No. F-2003-345-R1, dated November 12, 2003.

Issued in Fort Worth, Texas, on August 6, 2004.
David A. Downey,
Manager, Rotorcraft Directorate, Aircraft Certification Service.

[FR Doc. 04-18999 Filed 8-18-04; 8:45 am]

BILLING CODE 4910-13-P